DEPARTMENT OF TRANSPORTATION

Federal Aviation Administration

14 CFR Part 39

[Docket No. FAA-2013-0363; Directorate Identifier 2013-NM-031-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-200, -300 and -200 Freighter series airplanes, and Model A340-200, -300, -500, and -600 series airplanes. This proposed AD would require, for certain airplanes, revising the airplane flight manual (AFM) to advise the flight crew of emergency procedures for addressing Angle of Attack (AOA) sensor blockage. This proposed AD would also mandate replacing the AOA sensor conic plates with AOA sensor flat plates, which is a terminating action for the AFM revision. This proposed AD was prompted by a report that an airplane equipped with AOA sensors installed with conic plates recently experienced blockage of all sensors during climb, leading to autopilot disconnection and activation of the alpha protection (Alpha Prot) when Mach number was increased. We are proposing this AD to prevent reduced control of the airplane.

DATES: We must receive comments on this proposed AD by June 17, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; phone: 425-227-1138; fax: 425-227-1149; email: vladimir.ulyanov@faa.gov.

SUPPLEMENTARY INFORMATION:

Comments Invited

We invite you to send any written relevant data, views, or arguments about this proposed AD. Send your comments to an address listed under the ADDRESSES section. Include “Docket No. FAA-2013-0363; Directorate Identifier 2013-NM-031-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2013-0023, dated February 1, 2013 (referred to after this as the Mandatory Continuing Airworthiness Information, or “the MCAI”), to correct an unsafe condition for the specified products. The MCAI states:

An A330 aeroplane experienced a blockage of all Angle of Attack (AOA) probes during climb leading to Autopilot (AP) disconnection and activation of the alpha protection (Alpha Prot) when Mach number increased.

Analysis showed that this aeroplane was equipped with AOA probes having conic plates, and it is suspected that these plates might have contributed to the event. Investigations are on-going to determine the root cause of this AOA probes blockage. The AOA conic plates can also be installed on A340 aeroplanes.

These AOA conic plate could have been installed in production through Airbus modification (mod.) 201609 (associated to Thales Avionics AOA probes Part Number (P/N) C16291AA and P/N C16291AB) or mod. 201610, associated to Goodrich AOA probes P/N 0861ED, or in service through Airbus Service Bulletin (SB) A340-34-4250 or SB A340-34-5081.

The blockage of two or three AOA probes of the same angle may cause the Alpha Prot of the normal law to activate.

Under normal flight conditions (in normal law), if the Alpha Prot activates and Mach number increases, the flight control laws order a pitch down of the aeroplane that the flight crew may not be able to counteract with a sidestick deflection, even in the full backward position.

This condition, if not corrected, could result in reduced control of the aeroplane.

To address this condition, Airbus developed a “Blocked AOA probes” emergency procedure included in Airbus Airplane Flight Manual (AFM) A330 Temporary Revision (TR) TR293 issue 1 and Airbus AFM A340 TR294 issue 1.

Consequently, EASA issued Emergency AD 2012-0258-E to require amendment of the AFM to ensure that flight crews, in case of AOA probe blockage, apply the applicable emergency procedure.

Since that AD was issued, Airbus published approved instructions to re-install AOA probe flat plates on A330/A340 family aeroplanes.

For the reasons described above, this [EASA] AD retains the requirements of EASA [Emergency] AD 2012-0258-E which is superseded, and requires installation of AOA probe flat plates, after which the AFM operational procedure must be removed.

You may obtain further information by examining the MCAI in the AD docket.

Other Related Rulemaking

On December 27, 2012, the FAA issued AD 2012-26-51, Amendment 39-17312 (78 FR 1723, January 9, 2013), applicable to all Airbus Model A318, A319, A320, and A321 series airplanes. That AD requires revising the AFM to advise the flight crew of emergency procedures for addressing AOA sensor blockage. The actions required by that AD are intended to prevent reduced control of the airplane.

Relevant Service Information

We reviewed Airbus A330 Temporary Revision TR293, Issue 1.0, dated December 4, 2012, and Airbus A340 Temporary Revision TR294, Issue 1.0, dated December 4, 2012, to the Airbus A330 and A340 Airplane Flight Manuals. The temporary revisions provide information to advise the flight crew of emergency procedures for addressing AOA sensor blockage.

We also reviewed the following service information:

• Airbus Mandatory Service Bulletin A330-34-3293, including Appendix 01, dated January 31, 2013.

• Airbus Mandatory Service Bulletin A340-34-4273, including Appendix 01, dated January 30, 2013.

• Airbus Mandatory Service Bulletin A340-34-5093, including Appendix 01, dated January 30, 2013.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Difference Between the Proposed AD and the MCAI or Service Information

This proposed AD would require operators to revise the AFM within 10 days after the effective date of this AD. The MCAI recommends revising the AFM “from the effective date of this AD.” In developing the compliance time for this action, we considered the degree of urgency associated with addressing the subject unsafe condition and the practical aspect of revising the AFM. We have determined that 10 days represents an appropriate interval of time in which to revise the AFM for the affected fleet without adversely affecting the safety of these airplanes.

This difference has been coordinated with the EASA.

Costs of Compliance

Based on the service information, we estimate that this proposed AD would affect about 64 airplanes of U.S. registry.

We estimate the following costs to comply with this proposed AD:

Estimated Costs
Action | Labor cost | Parts cost | Cost per product | Cost on U.S. operators
AFM Revision | 1 work-hour × 85 per hour = 85 | 0 | 85 | 5,440
Modification | 7 work-hours × 85 per hour = 595 | 0 | 595 | 38,080

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2013-0363; Directorate Identifier 2013-NM-031-AD.

(a) Comments Due Date

We must receive comments by June 17, 2013.

(b) Affected ADs

None.

(c) Applicability

This AD applies to the Airbus airplanes, certificated in any category, as identified in paragraphs (c)(1) and (c)(2) of this AD.

(1) Model A330-201, -202, -203, -223, 223F, -243, -243F, -301, -302, -303, -321, -322, -323, -341, -342, and -343 airplanes, all manufacturer serial numbers.

(2) Model A340-211, -212, -213, -311, -312, -313, -541 and -642 airplanes, all manufacturer serial numbers.

(d) Subject

Joint Aircraft System Component (JASC)/Air Transport Association (ATA) of America Code 34: Navigation.

(e) Reason

This AD was prompted by a report that an airplane equipped with Angle of Attack (AOA) sensors installed with conic plates recently experienced blockage of all sensors during climb, leading to autopilot disconnection and activation of the alpha protection (Alpha Prot) when Mach number was increased. We are issuing this AD to prevent reduced control of the airplane.

(f) Compliance

You are responsible for having the actions required by this AD performed within the compliance times specified, unless the actions have already been done.

(g) Airplane Flight Manual Revision

For airplanes identified in paragraphs (g)(1) and (g)(2) of this AD, except as provided by paragraph (i) of this AD: Within 10 days after the effective date of this AD, revise the Emergency Procedures of the Airbus A330 and A340 Airplane Flight Manuals (AFMs), as applicable, by incorporating Airbus A330 Temporary Revision TR293, Issue 1.0, dated December 4, 2012; or Airbus A340 Temporary Revision TR294, Issue 1.0, dated December 4, 2012; as applicable; to advise the flight crew of emergency procedures for addressing AOA sensor blockage. This can be done by inserting the Airbus A330 Temporary Revision TR293, Issue 1.0, dated December 4, 2012; or Airbus A340 Temporary Revision TR294, Issue 1.0, dated December 4, 2012; into the applicable AFM. When the information in Airbus A330 Temporary Revision TR293, Issue 1.0, dated December 4, 2012; and Airbus A340 Temporary Revision TR294, Issue 1.0, dated December 4, 2012; is included in the general revisions of the applicable AFM, the general revisions may be incorporated into the AFM, and the temporary revisions may be removed.

(1) Model A330-201, -202, -203, -223, -223F, -243, -243F, -301, -302, -303, -321, -322, -323, -341, -342, and -343 airplanes, all manufacturer serial numbers, on which Airbus modification 201609 or 201610 has been embodied in production; or on which Airbus Service Bulletin A330-34-3255 has been embodied in service.

(2) Model A340-211, -212, -213, -311, -312, -313, -541, and -642 airplanes, all manufacturer serial numbers, on which Airbus modification 201609 or 201610 has been embodied in production; or on which Airbus Service Bulletin A340-34-4250 or A340-34-5081, as applicable, has been embodied in service.

(h) Terminating Replacement

Within 5 months after the effective date of this AD: Replace all AOA sensor conic plates having part number (P/N) F3411060200000 or P/N F3411060900000, with an applicable AOA sensor flat plate identified in paragraph (h)(1) or (h)(2) of this AD. Performing this replacement constitutes terminating action for the AFM revision required by paragraph (g) of this AD; and Airbus A330 Temporary Revision TR293, Issue 1.0, dated December 4, 2012, and Airbus A340 Temporary Revision TR294, Issue 1.0, dated December 4, 2012, to the Airbus A330 and A340 AFMs, as applicable; must be removed from the AFMs before further flight after doing the replacement.

(1) Replace with a flat plate having P/N F3411007920200 or P/N F3411007920300, as applicable, in accordance with the applicable service information specified in paragraph (h)(1)(i), (h)(1)(ii), or (h)(1)(iii) of this AD.

(i) Airbus Mandatory Service Bulletin A330-34-3293, including Appendix 01, dated January 31, 2013.

(ii) Airbus Mandatory Service Bulletin A340-34-4273, including Appendix 01, dated January 30, 2013.

(iii) Airbus Mandatory Service Bulletin A340-34-5093, including Appendix 01, dated January 30, 2013.

(2) Replace with a flat plate having P/N F3411007920000 or P/N F3411007920100, in accordance with a method approved by either the Manager, International Branch, ANM-116, Transport Airplane Directorate, FAA; or the European Aviation Safety Agency (EASA) or its delegated agent.

(i) Exception to Paragraphs (g) and (h) of This AD

For airplanes on which Airbus Modification 203285 (improve AOA flat plate protection treatment) has been embodied in production: The actions specified in paragraphs (g) and (h) of this AD are not required, provided that, since first flight, no AOA probe conic plate having P/N F3411060200000 or P/N F3411060900000 has been installed.

(j) Parts Installation Prohibition

As of the effective date of this AD, no person may install, on any airplane, an AOA sensor conic plate having P/N F3411060200000 or P/N F3411060900000 or an AOA protection cover having P/N 98D34203003000.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

(1) Refer to Mandatory Continuing Airworthiness Information EASA Airworthiness Directive 2013-0023, dated February 1, 2013, and the service information specified in paragraphs (l)(1)(i), (l)(1)(ii), (l)(1)(iii), (l)(1)(iv) and (l)(1)(v) of this AD for related service information:

(i) Airbus A330 Temporary Revision TR293, Issue 1.0, dated December 4, 2012.

(ii) Airbus A340 Temporary Revision TR294, Issue 1.0, dated December 4, 2012.

(iii) Airbus Mandatory Service Bulletin A330-34-3293, including Appendix 01, dated January 31, 2013.

(iv) Airbus Mandatory Service Bulletin A340-34-4273, including Appendix 01, dated January 30, 2013.

(v) Airbus Mandatory Service Bulletin A340-34-5093, including Appendix 01, dated January 30, 2013.

(2) For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Issued in Renton, Washington, on April 23, 2013.
Jeffrey E. Duven,
Acting Manager, Transport Airplane Directorate, Aircraft Certification Service.

[FR Doc. 2013-10486 Filed 5-2-13; 8:45 am]

BILLING CODE 4910-13-P